NATIONAL FOUNDATION ON THE ARTS AND THE HUMANITIES

Arts Advisory Panel Meeting

AGENCY: National Endowment for the Arts, National Foundation on the Arts and Humanities.

ACTION: Notice of Meeting.

SUMMARY: Pursuant to Section 10(a)(2) of the Federal Advisory Committee Act (Pub. L. 92-463), as amended, notice is hereby given that fifteen meetings of the Arts Advisory Panel to the National Council on the Arts will be held at the Nancy Hanks Center, 1100 Pennsylvania Avenue NW., Washington, DC 20506 as follows (ending times are approximate):

Media Arts (application review): In room 730. This meeting will be closed.

Dates: November 27, 2012; 9:00 a.m. to 6:00 p.m. EST.

Music (application review): Virtual, from Room 716. This meeting will be closed.

Dates: November 27, 2012; 1:00 p.m. to 3:00 p.m. EST.

Literature (application review): In room 716. This meeting will be closed.

Dates: November 28, 2012, from 9:00 a.m. to 6:30 p.m. EST.

Media Arts (application review): In room 730. This meeting will be closed.

Dates: November 28, 2012, from 9:00 a.m. to 6:00 p.m. EST.

Music (application review): In room 714. This meeting will be closed.

Dates: November 28, 2012. From 9:00 a.m. to 2:00 p.m. EST.

Literature (application review): In room 716. This meeting will be closed.

Dates: November 29, 2012; 9:00 a.m. to 6:30 p.m. EST.

Music (application review): In room 714. This meeting will be closed.

Dates: November 29, 2012. From 9:00 a.m. to 3:00 p.m. EST.

Arts Education (application review): In room 716. This meeting will be closed.

Dates: December 3, 2012. From 9:00 a.m. to 6:00 p.m. EST.

Media Arts (application review): In room 730. This meeting will be closed.

Dates: December 3, 2012. From 9:00 a.m. to 6:00 p.m. EST.

Media Arts (application review): In room 730. This meeting will be closed.

Dates: December 4, 2012. From 9:00 a.m. to 6:00 p.m. EST.

Arts Education (application review): In room 627. This meeting will be closed.

Dates: December 4-5, 2012. From 9:00 a.m. to 5:30 p.m. EST on both days.

Presenting (application review): In room 714. This meeting will be closed.

Dates: December 6, 2012. From 9:00 a.m. to 5:30 p.m. EST.

Visual Arts (application review): In room 716. This meeting will be closed.

Dates: December 6, 2012. From 9:00 a.m. to 5:30 p.m. EST.

Visual Arts (application review): In room 716. This meeting will be closed.

Dates: December 7, 2012. From 9:00 a.m. to 5:30 p.m. EST.

Design (application review): In room 714. This meeting will be closed.

Dates: December 11, 2012; 9:00 a.m. to 5:30 p.m. EST.

FOR FURTHER INFORMATION CONTACT: Further information with reference to these meetings can be obtained from Ms. Kathy Plowitz-Worden, Office of Guidelines & Panel Operations, National Endowment for the Arts, Washington, DC 20506; plowitzk@arts.gov or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: November 8, 2012.
Kathy Plowitz-Worden,
Panel Coordinator, National Endowment for the Arts.

[FR Doc. 2012-27622 Filed 11-13-12; 8:45 am]

BILLING CODE 7537-01-P